DEPARTMENT OF TRANSPORTATION

Federal Aviation Administration

Policy Statement, 14 CFR Part 23, §§ 23.853, 23.855, 23.863 and 23.1359, Flammability of MIL-C-17/60, /93, /94, /113, /127, and /128 Coaxial Cable

AGENCY: Federal Aviation Administration (FAA), DOT.

ACTION: Notice of issuance and availability.

SUMMARY: Policy Statement PS-ACE100-2007-002, 14 CFR Part 23, §§ 23.853, 23.855, 23.863 and 23.1359, Flammability of MIL-C-17/60, /93, /94, /113, /127, and /128 Coaxial Cable clarifies certification policy on part 23 and the Airship Design Criteria (ADC). The policy statement clarifies part 23, §§ 23.853, 23.855, 23.863 and 23.1359 for installing coaxial cable in part 23 aircraft. It applies to normal, utility, acrobatic, and commuter category airplanes. It also applies to non-rigid airships (ADC sections 4.39, 4.40 and 6.21) certificated in the normal category (14 CFR part 21, § 21.17(b)) with nine passenger seats or less. Material in the policy is neither mandatory nor regulatory in nature and does not constitute a regulation.

DATES: Policy statement PS-ACE100-2007-002 was issued by the Small Airplane Directorate, Aircraft Certification Service, on October 15, 2007.

Discussion of Comments

The comment period for the proposed policy closed on August 29, 2007. No comments were received, and the policy is being adopted as proposed.

How To Obtain Copies: A paper copy of policy statement PS-ACE100-2007-002 may be obtained by writing to us at the Small Airplane Directorate, ACE-111; Federal Aviation Administration, Room 301; 901 Locust; Kansas City, Missouri 64106.

The policy statement is available on the Internet at http://www.faa.gov/regulations_policies/policy_guidance/.

Issued in Kansas City, Missouri on October 15, 2007.
David R. Showers,
Acting Manager, Small Airplane Directorate, Aircraft Certification Service.

[FR Doc. E7-21826 Filed 11-6-07; 8:45 am]

BILLING CODE 4910-13-P